DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRS section 6039G, as amended, by the Health Insurance Portability and Accountability Act (HIPPA) of 1996. This listing contains the name of each individual losing United States citizenship (within the meaning of section 877(a)) with respect to whom the Secretary received information during the quarter ending December 31, 2007.

Last name | First name | Middle name/initials
DOAN | CHRISTINE | MARY
MONNIER | NICOLAS | BONAVENTURE
YANG | RAYMOND | HON-MUN
DIXON | DAVID | B
BAZIUK | NELSON | WILLIAM
MOKHTARZADEH | DEVIKA | WANEY
KAROZY | BRIAN | DAVID
LUE | ANNIE | SIU-TSUI
LUI | LAWRENCE | YUK-FAN
BAZIUK | PENNY | L
HOTTINGER | HENRI | JONATHON
ALVAREZ | MARISSA
YAO | JASON | BO
FREIBOTH | KATHRYN | MARIE
TOP | JEFFREY | R
FAN | LI | CUI
AIKEN | EVA | ELAINE
MATHRANI | RAJESH | LAKHMI
LANDEAU | MARC
MOMIN | ZAFAR | A
CHOY | LONG | YIN
D'SOUZA | Sr PETRONILLA
WEINER | RICHARD | HARVEY
MARTI | ALBERTO
DIVI | NILIMA
NAN | CUNHUI
CAMPBELL | SILVANA | E
CAMPBELL | ANTHONY | E
TAM | HING | KEUNG
KIM | TAI-YOUNG | SIMON
EDWARDS | DANA | LEE
WANG | ZHIXUE
DAVID | MANFRED | LUDWIG
FISCHER-ZERNIN | STEPHANIE
FISCHER-ZERNIN | LORENZ
HAYLES | IAN | DAVE
KELEMEN | MURIEL | LULLIN
CONNELLY | WILLIAM | L
KIM | PETER | D
CECHANOWICZ | ALEX | MICHAEL
RIDDELL | ROGER | C
CHEUNG | CAREY | SEI-LOK
SOEDAL | SVEN | A
FLETCHER | ROGER | ANTHONY
SINDHWANI | SUDHIR | C
PHILLIPS | ROBERT | PHILIPP
CUNNYGHAM | ANNA | FLORENCE
CHILCO | CATHERINE | A
HORTE | ROBERT | VERNON
MACNEIL | ANDREW | IAN
DORION | MICHELLE
LOW | KIT | L
POON | ALWIN
ACKERMANN | SYLVIE | F
SCHWARZENBACH | FRANCISCA | S
NG | CHRISTINA | SHIEU-YEING
GUO | SHAOMU
LI | GEN | XIONG
MURPHY | PETER | STUART
KLINZ-ATTOLINI | DAGMAR
TAI | INJAY | W
HOPKINS | WALTER | PAINTER
WARREN | SUSAN | ELIZABETH
MISRA | RAJEEV
KING | GEOFFREY | CHANG-WEI
GOSWELL | ROWAN | H
CHORENGEL | SHARON
CHORENGEL | BERND | O
DE LA VIESCA | FERNANDO | A
SYMONS | BLANCHE | E
WONG | CASSIE | CHUI PING
ERHART | MARK | A
CHAN | ALICE | MEI KEI
MOULTON | SPENCER | J
SANDERSON
DYER | JOHN | CHRISTOPHER
PARK | RO | WOONG
CHEN | EDWARD | SHI
STEARNS | JAMES | PATRICK
WILLIAMSON | DAWN | MARIE
HO | GERRAN | C
NILSSON | BENGT | O
SCOTT | DAVID | B
MELCHER | A | STEPHEN
GREEN | ALASTAIR | J
HANGARTNER | DORIS
ADAMS | JILL | BRIDGE
TAN | YA | CHING
BALTODANO | J | ANTONIO
SWIFT | NICOLA
SWIFT | ROBERT
SWIFT | MARTHA
LAPIDOTH | AMOS
CARVER | ANTON | PHILIP TRISTRAM
CARON | FRANCOISE
KENNEDY | LINDSAY | NICOLA
GAW | GOODWIN
URAN | CAN
HUSSAIN | ALI
KOENIG | ROBERT | EDUARD
FENG | JANINE | JUNYUAN
HUSSAIN | SUKAINA | ALI
JENSEN | RONALD | L
DORMENT | RICHARD
TUNG | ANDREW | L
ROSKELLY | KATRIN | ALEXANDRA
CLAUSEN | KENNETH | CHRISTIAN
YEMSI | YVES | B
BOURKE | CAROL | A
SMITH | CECILE | F
HUTCHISON | GRAEME | LINTS
LU | YUE | WEI
LUCAS | RUTH | HELEN
DAVIS | MARION | BRIGETTE
CHAN | CHARLES | CHAM CHUEN
KORNICKER | PETER | H
BROWN | KATHERINE | KENT
SKEIE | ASTRID | CECILI
KIM | SOON
DAKU | CAROLYN | L
DUBNICKI | CEZARY
MANOUKYAN | HACHIK
YEH | YING
ALDER | HANS | URS
FINDLING | ROBERT | K
MATSUZAWA | MASAAKI
SCHREIBER | SALLY | B
RICH | CYNTHIA | ELIZABETH
THOMAS | ARTHUR | JOHN
YU | HOWARD | LAWRENCE
TONG | ANNA | SEEN MING
FERRO | PATRICIA
VAN DER MEER | JAN
BELTMAN | MARIEKE | A
FRITZ-DI VETTE | NIKKI
DAVIES | PEDRO | H
REEVES | CHRISTOPHER | WILLIAM
KANEB | STEPHANIE
RISCHARD | JEAN-FRANCOIS
VOON | DAVID | H
MARTEL | MICHEL | S
MARTEL | MICHAEL | R
MARTEL | ALLISON | E
BJELIC | MILONJA

Dated: January 25, 2008.
Angie Kaminski,
Manager Team 103, Examinations Operations, Philadelphia Compliance Services.

[FR Doc. E8-2310 Filed 2-7-08; 8:45 am]

BILLING CODE 4830-01-P